INTERNATIONAL TRADE COMMISSION

[Investigation No. 731-TA-385 (Third Review)]

Granular Polytetrafluoroethylene Resin From Italy

Determination

On the basis of the record ¹ developed in the subject five-year review, the United States International Trade Commission (Commission) determines, pursuant to section 751(c) of the Tariff Act of 1930 (19 U.S.C. 1675(c)), that revocation of the antidumping duty order on granular polytetrafluoroethylene resin from Italy would be likely to lead to continuation or recurrence of material injury to an industry in the United States within a reasonably foreseeable time.

¹ The record is defined in sec. 207.2(f) of the Commission's Rules of Practice and Procedure (19 CFR 207.2(f)).

Background

The Commission instituted this review on November 1, 2010, (75 F.R. 67105) and determined on May 2, 2011, that it would conduct an expedited review (76 F.R. 28455, May 17, 2011).

The Commission transmitted its determination in this review to the Secretary of Commerce on June 29, 2011. The views of the Commission are contained in USITC Publication 4240 (June 2011), entitled Granular Polytetrafluoroethylene Resin from Italy: Investigation No. 731-TA-385 (Third Review).

By order of the Commission.
Issued: June 30, 2011.
James R. Holbein,
Secretary to the Commission.

[FR Doc. 2011-16968 Filed 7-6-11; 8:45 am]

BILLING CODE 7020-02-P